ENVIRONMENTAL PROTECTION AGENCY

[FRL-9967-39-Region 5]

Notice of Issuance of Part 71 Federal Operating Permits for Cloquet Compressor Station No. 5, Grand Casino Hinckley, Treasure Island Resort & Casino, and Mystic Lake Casino Hotel; and Notice of Issuance of Part 52 Federal Construction Permit for Grand Casino Hinckley

AGENCY: Environmental Protection Agency (EPA).

ACTION: Notice.

SUMMARY: This notice announces that the Environmental Protection Agency (EPA) issued Federal operating permits to Great Lakes Gas Transmission Limited Partnership (Great Lakes Gas), NRG Reliability Solutions, LLC, Mille Lacs Corporate Ventures dba Grand Casino Hinckley (Mille Lacs Corporate Ventures), and Shakopee Mdewakanton Sioux Community of Minnesota (SMSC). EPA also issued a Federal construction permit to Mille Lacs Corporate Ventures.

ADDRESSES: The final signed permits are available for public inspection online at http://yosemite.epa.gov/r5/r5ard.nsf/Tribal+Permits!OpenView, or during normal business hours at the following address: U.S. Environmental Protection Agency, Region 5, Air and Radiation Division, 77 West Jackson Boulevard, Chicago, Illinois 60604. We recommend that you call Paymon Danesh, Environmental Engineer, at (312) 886-6219 before visiting the Region 5 office.

FOR FURTHER INFORMATION CONTACT: Paymon Danesh, Environmental Engineer, Air Permits Section, Air Programs Branch (AR-18J), Environmental Protection Agency, Region 5, 77 West Jackson Boulevard, Chicago, Illinois 60604, (312) 886-6219, danesh.paymon@epa.gov.

SUPPLEMENTARY INFORMATION: Throughout this document whenever “we,” “us,” or “our” is used, we mean EPA.

A. What is the background information?

i. Great Lakes Gas Transmission—Cloquet Compressor Station No. 5 (CS#5)

CS#5 operates three stationary natural gas-fired turbines which drive three natural gas compressors. One natural gas-fired emergency generator provides electrical power for compressor station operations during periods of electrical power disruption. CS#5 is located approximately 8 miles west of Cloquet, Minnesota. CS#5 is owned and maintained by Great Lakes Gas on privately-owned fee land within the exterior boundaries of the Fond du Lac Band of Lake Superior Chippewa Reservation. EPA is responsible for issuing and enforcing any air quality permits for the source until such time that the Fond du Lac Band of Lake Superior Chippewa has EPA approval to do so.

On August 14, 2015, EPA received from Great Lakes Gas a permit application to renew its 2011 title V operating permit for CS#5. On September 30, 2016, EPA received supplemental information from Great Lakes Gas. On December 9, 2016, EPA published a draft title V permit for public comment. The public comment period ended on January 9, 2017, and EPA did not receive any comments. EPA issued the final permit for CS#5, permit number V-FDL-271300066-2016-03, on January 26, 2017. Pursuant to 40 CFR 71.11(i)(2)(iii), the permit became effective immediately upon issuance since EPA did not receive any comments requesting a change in the draft permit.

ii. Treasure Island Resort & Casino

NRG Reliability Solutions, LLC, owns and operates four diesel-fired generators at the Treasure Island Resort & Casino in Red Wing, Minnesota. The generators are located on the Prairie Island Indian Community's reservation on lands held in trust by the Federal government. Since the generators are located on lands held in trust by the Federal government, EPA is primarily responsible for issuing permits for the source.

On October 12, 2016, EPA received from NRG Reliability Solutions, LLC, a permit application requesting to revise the carbon monoxide testing interval required pursuant to 40 CFR 63 subpart ZZZZ for limited use stationary reciprocating internal combustion engines. On December 13, 2016, EPA published a draft title V significant modification for public comment. The public comment period ended January 12, 2017. EPA did not receive any comments on this permit. EPA issued the final permit, permit number V-PI-2704900084-2012-13, on January 27, 2017. Pursuant to 40 CFR 71.11(i)(2)(iii), the permit became effective immediately upon issuance since EPA did not receive any comments on the permit.

iii. Grand Casino Hinckley

Mille Lacs Corporate Ventures owns and operates three non-emergency internal combustion engines used for peak load management and backup power at the Grand Casino Hinckley, located in Hinckley, Minnesota. Mille Lacs Corporate Ventures also owns and operates two diesel-fired emergency internal combustion engines, used for backup power. All electricity generated is used onsite. The facility is located on land that is held in trust for the Mille Lacs Band of Ojibwe. EPA is responsible for issuing and enforcing any air quality permits for the source until such time that the Mille Lacs Band of Ojibwe has EPA approval to do so.

On July 31, 2015, EPA received from Mille Lacs Corporate Ventures a permit application to renew its 2010 title V operating permit for Grand Casino Hinckley. On September 23, 2015, EPA requested additional information from Mille Lacs Corporate Ventures, who submitted a response to the request on October 22, 2015. EPA found the application to be complete on December 22, 2015. On August 25, 2016, EPA published a draft title V permit for public comment. The public comment period ended on September 24, 2016. EPA received one comment from Mille Lacs Corporate Ventures requesting a change to the permit and responded to all comments. EPA issued the final permit for Grand Casino Hinckley, permit number V-ML-2711500031-2016-01, on October 20, 2016. Pursuant to 40 CFR 71.11(i)(2), the permit became effective on November 20, 2016.

On November 1, 2016, EPA received from Mille Lacs Corporate Ventures a significant permit modification application requesting a revision to the facility's annual oxides of nitrogen (NOX) compliance test requirements. On May 3, 2017, EPA published a draft title V permit and draft Prevention of Significant Deterioration (PSD) permit for public comment. The public comment period ended on June 5, 2017. EPA did not receive any significant comments on the permits. EPA issued the final permits for Grand Casino Hinckley, title V permit number V-ML-2711500031-2016-02, and PSD permit number PSD-ML-2711500031-2017-03, on July 6, 2017. Pursuant to 40 CFR 71.11(i)(2)(iii) and 40 CFR 124.15(b)(3), the permits became effective immediately upon issuance since EPA did not receive any comments on the permits.

iv. Mystic Lake Casino Hotel

SMSC owns and operates 14 non-emergency internal combustion engines for peak load management and backup power at Mystic Lake Casino Hotel, located in Prior Lake, Minnesota. Mystic Lake Casino Hotel is located on reservation land that is held in trust for SMSC. EPA is responsible for issuing and enforcing any air quality permits for the source until such time that SMSC has EPA approval to do so.

On February 23, 2016, EPA received from SMSC an initial title V permit application for Mystic Lake Casino Hotel. The application was deemed complete on April 22, 2016. On May 9, 2017, SMSC provided additional information to address title I construction permit requirements that had become applicable since the title V application was filed. On May 25, 2017, EPA published a draft title V permit for public comment. The public comment period ended on June 30, 2017, and EPA did not receive any significant comments. EPA issued the final permit for Mystic Lake Casino Hotel, permit number V-27139R0001-2016-01, on July 13, 2017. Pursuant to 40 CFR 71.11(i)(2)(iii), the permit became effective immediately upon issuance since EPA did not receive any comments requesting a change in the draft permit.

B. Appeal of the Permits

Pursuant to 40 CFR 71.11(l), any person who filed comments on the draft permit may petition for administrative review subject to the requirements of 40 CFR 71.11(l). If no one filed comments on the draft permit and the final permit is identical to the permit as proposed, any person may petition for administrative review of the permit only to the extent that grounds for a petition have arisen that were not reasonably foreseeable during the public comment period on the draft permit. For CS#5 permit number V-FDL-271300066-2016-03, the 30-day period during which a person may seek review under 40 CFR 71.11(l) began on January 30, 2017. For Treasure Island Resort & Casino permit number V-PI-2704900084-2012-13, the 30-day period during which a person may seek review under 40 CFR 71.11(l) began on January 31, 2017. For Grand Casino Hinckley permit number V-ML-2711500031-2016-01, the 30-day period during which a person may seek review under 40 CFR 71.11(1) began on October 20, 2016. For Grand Casino Hinckley permit number V-ML-2711500031-2016-02, the 30-day period during which a person may seek review under 40 CFR 71.11(1) began on July 14, 2017. For Mystic Lake Casino Hotel permit number V-27139R0001-2016-01, the 30-day period during which a person may seek review under 40 CFR 71.11(1) began on July 14, 2017.

Pursuant 40 CFR 124.19(2), any person who filed comments on the draft PSD permit may file a petition for review as provided in 40 CFR 124.19. Additionally, any person who failed to file comments may petition for administrative review of any permit conditions set forth in the final permit decision, but only to the extent that those final permit conditions reflect changes from the proposed draft permit. For Grand Casino Hinckley permit number PSD-ML-2711500031-2017-03, the 30-day period during which a person may seek review under 40 CFR 124.19 began on July 14, 2017.

C. What is the purpose of this notice?

EPA is notifying the public of the issuance of title V operating permits to Great Lakes Gas, NRG Reliability Solutions, LLC, Mille Lacs Corporate Ventures and SMSC. EPA is also notifying the public of the issuance of a title I construction permit to Mille Lacs Corporate Ventures.

EPA issued permit number V-FDL-2713700066-2016-03 to Great Lakes Gas on January 26, 2017, which became effective immediately upon issuance. EPA issued permit number V-PI-2704900084-2012-13 to NRG Reliability Solutions, LLC on January 27, 2017, which became effective immediately upon issuance. EPA issued permit number V-ML-2711500031-2016-01 on October 20, 2016 to Mille Lacs Corporate Ventures, which became effective on November 20, 2016. EPA issued permit numbers V-ML-2711500031-2016-02 and PSD-ML-2711500031-2017-03 on July 6, 2017 to Mille Lacs Corporate Ventures, which became effective immediately upon issuance. EPA issued permit number V-27139R0001-2016-01 on July 13, 2017 to SMSC, which became effective immediately upon issuance.

Authority: 42 U.S.C. 7401 et seq.

Dated: August 14, 2017.
Robert A. Kaplan,
Acting Regional Administrator, Region 5.

[FR Doc. 2017-19700 Filed 9-14-17; 8:45 am]

BILLING CODE 6560-50-P